DEPARTMENT OF HEALTH AND HUMAN SERVICES

Administration for Children and Families

Proposed Information Collection Activity; National Survey of Child and Adolescent Well-Being-Third Cohort (NSCAW III) (OMB #0970-0202)

AGENCY: Office of Planning, Research, and Evaluation; Administration for Children and Families; HHS.

ACTION: Request for public comment.

SUMMARY: The Administration for Children and Families (ACF), within the U.S. Department of Health and Human Services (HHS), is proposing to collect data on the child welfare workforce as part of the third cohort of children and families for the National Survey of Child and Adolescent Well-Being (NSCAW III). Previous and current data collections for NSCAW have been approved by OMB under OMB #0970-0202. This request is for additional data collection.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: NSCAW is the only source of nationally representative, longitudinal, firsthand information about the functioning and well-being, service needs, and service utilization of children and families who come to the attention of the child welfare system.

OMB previously approved data collection under OMB Control Number 0970-0202 for NSCAW. The Phase I submission, approved November 2016, included recruitment and sampling process data collection activities. The Phase II submission, approved July 2017, included baseline and 18-month follow-up data collection activities.

The proposed new data collection activities will provide national representative data on the characteristics and activities of the workforce in child welfare agencies participating in NSCAW III. Surveys will collect information on workforce characteristics and competencies, training and professional development opportunities, and organizational and agency factors.

Respondents: The respondents are agency directors, supervisors, and caseworkers. All surveys will be conducted in-person.

Annual Burden Estimates
Instrument | Total number of respondents | Annual number of respondents | Number of responses per respondent | Average burden hours per response | Annual burden hours
Agency Director Survey | 65 | 22 | 1 | .42 | 9
Supervisor Survey | 130 | 43 | 1 | .50 | 22
Caseworker Survey | 390 | 130 | 1 | .75 | 98

Estimated Total Annual Burden Hours: 129.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 628b; Continuing Appropriations Act of 2020.

Mary B. Jones,
ACF/OPRE Certifying Officer.

[FR Doc. 2020-02075 Filed 2-3-20; 8:45 am]

BILLING CODE 4184-01-P